ENVIRONMENTAL PROTECTION AGENCY

[EPA-HQ-OW-2019-0566; FRL-10002-29-OW]

Proposed Information Collection Request; Comment Request; Water Quality Certification Regulations

AGENCY: Environmental Protection Agency (EPA).

ACTION: Notice.

SUMMARY: The Environmental Protection Agency is planning to submit an information collection request (ICR), Water Quality Certification Regulations (EPA ICR No. 2603.03, OMB Control No. 2040-0295), to the Office of Management and Budget (OMB) for review and approval in accordance with the Paperwork Reduction Act (PRA). Before doing so, EPA is soliciting public comments on specific aspects of the proposed information collection as described below. This is a proposed revision of an ICR (OMB Control No. 2040-0295), which is currently approved through February 29, 2020. An Agency may not conduct or sponsor and a person is not required to respond to a collection of information unless it displays a currently valid OMB control number.

DATES: Comments must be submitted on or before January 27, 2020.

ADDRESSES: Submit your comments, referencing Docket ID No. EPA-HQ-OW-2019-0566, online using www.regulations.gov (our preferred method) or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI), or other information whose disclosure is restricted by statute.

FOR FURTHER INFORMATION CONTACT: Lauren Kasparek, Oceans, Wetlands, and Communities Division, Office of Wetlands, Oceans, and Watersheds, (MC 4504T), Environmental Protection Agency, 1200 Pennsylvania Ave. NW, Washington, DC 20460; telephone number: (202) 564-3351; email address: cwa401@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., electronic submission of responses. The EPA will consider the comments received and amend the ICR as appropriate. The final ICR package will then be submitted to OMB for review and approval. At that time, the EPA will issue another Federal Register notice to announce the submission of the ICR to OMB and the opportunity to submit additional comments to OMB.

Abstract: This ICR describes the cost and burden associated with 40 CFR 121, the regulations that implement Clean Water Act (CWA) section 401. Under section 401, a federal agency may not issue a permit or license that may result in any discharge into waters of the United States unless the certifying authority where the discharge would originate issues a section 401 water quality certification verifying that the discharge will comply with certain water quality requirements or waives the certification requirement. CWA section 401 requires project proponents to submit project specific information to certifying authorities. Certifying authorities may act on project specific information by either granting, granting with conditions, denying, or waiving section 401 certification. CWA section 401 requires certifying authorities to submit information to the relevant federal licensing or permitting agency to indicate the action taken on a request for certification. The EPA is also responsible for coordinating input from certain neighboring or downstream states and tribes affected by a discharge from a federally licensed or permitted project under section 401(a)(2). Information collected directly collected by the EPA under section 401 in support of the section 402 permit program is already captured under an existing ICR (OMB Control Number 2040-0004, EPA ICR Number 0229.22) and therefore is not included in this analysis.

Form Numbers: None.

Respondents/affected entities: Applicants for certain federal licenses and permits; certifying authorities including states, territories, and authorized tribes.

Respondent's obligation to respond: Project Proponents: required to obtain or retain a benefit (33 U.S.C. 1341).

Certifying Authorities: Not mandatory.

Estimated number of respondents: 41,119 (total).

Frequency of response: Per Federal Application.

Total estimated burden: 328,000 hours (per year). Burden is defined at 5 CFR 1320.03(b).

Total estimated cost: $18,000,000 (per year), includes $0 annualized capital or operation & maintenance costs.

Changes in Estimates: There is a change in the total estimated respondent burden, number of respondents, and number of responses compared with the ICR currently approved by OMB (OMB Control No. 2040-0295) due to refinements in how the estimates are calculated. See the Supporting Statement in the docket for more information on the changes in estimates.

Dated: November 21, 2019.
John Goodin,
Director, Office of Wetlands, Oceans, and Watersheds, Office of Water, Environmental Protection Agency.

[FR Doc. 2019-25693 Filed 11-26-19; 8:45 am]

BILLING CODE 6560-50-P